DEPARTMENT OF EDUCATION

[Docket No.: ED-2024-SCC-0101]

Agency Information Collection Activities; Submission to the Office of Management and Budget for Review and Approval; Comment Request; School Pulse Panel 2025-26 and 2026-27 (SPP 2025-26, SPP 2026-27) Preliminary Field Activities

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before December 27, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2025-26 and 2026-27 (SPP 2025-26, SPP 2026-27) Preliminary Field Activities.

OMB Control Number: 1850-0975.

Type of Review: A revision of a currently approved ICR.

Respondents/Affected Public: State, Local, and Tribal Governments.

Total Estimated Number of Annual Responses: 6,339.

Total Estimated Number of Annual Burden Hours: 2,503.

Abstract: The School Pulse Panel (SPP) is a data collection that was originally designed to collect voluntary responses from a nationally representative sample of public schools to better understand how schools, students, and educators were responding to the ongoing stressors of the coronavirus pandemic. The School Pulse Panel is conducted by the National Center for Education Statistics (NCES), part of the Institute of Education Sciences (IES), within the United States Department of Education. Initially, the purpose of the study was to collect extensive data on issues brought to light by the COVID-19 pandemic, as well as other important education-related issues that could inform data-driven policy decisions, in U.S. public schools. Due to the immediate need to collect pandemic-era information from schools as described in Executive Order 14000, an emergency clearance was issued to develop and field the first several monthly collections of the SPP in 2021 and a full review of the SPP data collection was performed in 2022 (OMB# 1850-0969). SPPs innovative design and timely dissemination of findings have been used and cited frequently among Department of Education senior leadership, the White House Domestic Policy Council, the USDAs Food and Nutrition Service, the Centers for Disease Control and Prevention, Congressional deliberations, and the media. The growing interest from stakeholders resulted in a request for funding to create an established NCES quick-turnaround data collection vehicle to become a mainstay for NCES. Funding for a mainstay collection was approved in late 2022, and NCES conducted a new collection during the 2023-24 school year (OMB# 1850-0975).

The School Pulse Panel study is one of the few reliable, nationally representative, quick-turnaround studies that produces data on U.S. public schools. The sample design for the 2025-26 collection will roughly be the same as the 2024-25 collection with 4,000 public schools randomly selected to an initial sample and 4,000 in a reserve sample. It is expected these schools will come from roughly 3,000 districts. The goal is national representation from about 1,200 responding schools each month in order to report out national estimates. School staff will be asked to provide requested data monthly during the 2025-26 school year. This approach provides the ability to collect detailed information on various topics while also assessing changes over time for items that are repeated from year to year. Given the demand for data collection, the content of the survey is expected to change monthly. For the 2025-26 school year, the survey may ask school staff about a wide range of topics, including but not limited to staffing; learning recovery; absenteeism; usage of federal funds; and overall principal experiences.

This package includes preliminary activities, including contacting and obtaining research approvals from public school districts with an established research approval process (special contact districts) where applicable; notifying sampled schools and districts of their selection for the survey; and inviting them to complete a short Screener Survey to establish points of contact. In spring of 2025, a clearance for main study data collection activities that will include instruments for the first quarter of collections will be submitted for 60-day and 30-day public comment. Subsequent quarterly content submissions will be submitted for 30-day public comment.

This request is to conduct the SPP 2025-26 preliminary activities. Substantial edits and additional materials may be added to this package after the 60-day public comment period is complete, in time for the subsequent 30-day public comment period that will begin Fall 2024. Materials for SPP are cleared under two OMB Number sequences. Materials for SPP 2022 and SPP 2024-25 were cleared under OMB# 1850-0969, while SPP 2023-24 and now SPP 2025-26 are cleared under OMB# 1850-0975.

Dated: November 22, 2024.
Stephanie Valentine,
PRA Coordinator, Strategic Collections and Clearance, Governance and Strategy Division, Office of Chief Data Officer, Office of Planning, Evaluation and Policy Development.

[FR Doc. 2024-27846 Filed 11-26-24; 8:45 am]

BILLING CODE 4000-01-P